LEGAL SERVICES CORPORATION

Notice of Availability of Calendar Year 2009 Competitive Grant Funds

AGENCY: Legal Services Corporation.

ACTION: Solicitation for Proposals for the Provision of Civil Legal Services.

SUMMARY: The Legal Services Corporation (LSC) is the national organization charged with administering Federal funds provided for civil legal services to low-income people. LSC hereby announces the availability of competitive grant funds for the provision of a full range of civil legal services to eligible clients throughout the VA-20 service area in northern Virginia. It is anticipated that the grant amount for the service area will be similar to the amount awarded for calendar year 2008—approximately $1.1 million. The grant will be awarded in January 2009.

DATES: See Supplementary Information for grants competition dates.

ADDRESSES: Legal Services Corporation—Competitive Grants, 3333 K Street, NW., Third Floor, Washington, DC 20007-3522.

FOR FURTHER INFORMATION CONTACT: Office of Program Performance by e-mail at competition@lsc.gov, or visit the grants competition Web site at http://www.grants.lsc,.gov.

SUPPLEMENTARY INFORMATION: The Request for Proposals (RFP) is available at http://www.grants.lsc.gov. Refer to the RFP for instructions on preparing the grant proposal; the regulations and guidelines governing LSC funding; and grant proposal submission requirements.

Service area VA-20 is comprised of the following northern Virginia counties and cities: Arlington County, Caroline County, Culpeper County, Essex County, Fairfax County, Fauquier County, King and Queen County, King George County, King William County, Lancaster County, Loudoun County, Madison County, Northumberland County, Orange County, Prince William County, Rappahannock County, Richmond County, Spotsylvania County, Stafford County, Westmoreland County, Alexandria City, Fairfax City, Falls Church City, Fredericksburg City, Manassas City, and Manassas Park City.

Applicants must file a Notice of Intent to Compete (NIC) to participate in the competitive grants process. The deadline for filing the NIC is September 5, 2008, 5 p.m., E.D.T. The deadline for filing grant proposals is October 10, 2008, 5 p.m., E.D.T.

The dates shown in this notice for filing the NIC and the grant proposals supersede the dates in the 2009 RFP. All other instructions, guidelines, and grant proposal requirements provided in the 2009 RFP remain in effect unless otherwise noted.

LSC is seeking proposals from: (1) Non-profit organizations that have as a purpose the provision of legal assistance to eligible clients; (2) private attorneys; (3) groups of private attorneys or law firms; (4) state or local governments; and (5) sub-state regional planning and coordination agencies that are composed of sub-state areas and whose governing boards are controlled by locally elected officials.

LSC will not fax the RFP to interested parties. Interested parties are asked to visit http://www.grants.lsc.gov regularly for updates on the LSC competitive grants process.

Dated: May 23, 2008.
Victor M. Fortuno,
Vice President and General Counsel.

[FR Doc. E8-12088 Filed 5-29-08; 8:45 am]

BILLING CODE 7050-01-P